DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div, Code OOL, Bldg. 2, 300 Highway 361, Crane, IN 47522-5001.

FOR FURTHER INFORMATION CONTACT: Mr. Christopher Monsey, Naval Surface Warfare Center, Crane Div, Code OOL, Bldg. 2, 300 Highway 361, Crane, IN 47522-5001, Email Christopher.Monsey@navy.mil, telephone 812-854-2777.

SUPPLEMENTARY INFORMATION: The following patents are available for licensing: Patent No. 10,101125 (Navy Case No. 200366): PRECISION ENGAGEMENT SYSTEM//Patent No. 10,106,880 (Navy Case No. 200332): MODIFYING THE SURFACE CHEMISTRY OF A MATERIAL//Patent No. 10,109,915 (Navy Case No. 103078): PLANAR NEAR-FIELD CALIBRATION OF DIGITAL ARRAYS USING ELEMENT PLANE WAVE SPECTRA//Patent No. 10,091,664 (Navy Case No. 200240): SYSTEM AND METHODS FOR UNOBTRUSIVELY AND RELOCATEABLY EXTENDING COMMUNICATION COVERAGE AND SUPPORTING UNMANNED AERIAL VEHICLE (UAV) ACTIVITIES//Patent No. 10,094,866 (Navy Case No. 103206): PORTABLE MULTI-FUNCTION CABLE TESTER//Patent No. 10,095,193 (Navy Case No. 200284): HIGH SPEED, HIGH VOLTAGE (HV) CAPACITOR SYSTEM (HVCS) CONTROL SYSTEMS AND RELATED METHODS FOR HVCS CHARGE/DISCHARGE UPON ACTIVATION/DEACTIVATION OF A HV MAIN POWER SYSTEM (MPS) OR SYSTEM FAULT EVENT INCLUDING A FIRST AND SECOND TIMING SEQUENCE FOR MPS MAIN RELAY(S) AND HVCS RELAY(S) OPERATION//Patent No. 10,101,106 (Navy Case No. 200388): PORTABLE PART OR CONSUMABLE ITEM CARRIER WITH ANTI-JAM FEED SYSTEM WITH EXEMPLARY CONSUMING ITEM SYSTEMS//Patent No. 10,107,858 (Navy Case No. 200360): DIGITAL TEST SYSTEM//Patent No. 10,109,924 (Navy Case No. 200393): METHOD FOR ASSEMBLING A MULTI-ELEMENT APPARATUS USING A RECONFIGURABLE ASSEMBLY APPARATUS//and Patent No. 10,114,127 (Navy Case No. 200238): AUGMENTED REALITY VISUALIZATION SYSTEM.

Authority: 35 U.S.C. 207, 37 CFR part 404.

Dated: December 3, 2018.
Meredith Steingold Werner,
Commander, Judge Advocate General's Corps, U.S. Navy, Federal Register Liaison Officer.

[FR Doc. 2018-26599 Filed 12-7-18; 8:45 am]

BILLING CODE 3810-FF-P